DEPARTMENT OF TRANSPORTATION

Federal Aviation Administration

[Summary Notice No. 2021-0014]

Petition for Exemption; Summary of Petition Received; Helicopter Association International

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before December 7, 2021.

ADDRESSES: Send comments identified by docket number FAA-2021-1028 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Alphonso Pendergrass, (202) 267-4713, Office of Rulemaking, Federal Aviation Administration, 800 Independence Avenue SW, Washington, DC 20591.

This notice is published pursuant to 14 CFR 11.85.

Issued in Washington, DC.
Caitlin Locke,
Acting Executive Deputy Director, Office of Rulemaking.

Petition for Exemption

Docket No.: FAA-2021-1028.

Petitioner: Helicopter Association International.

Section(s) of 14 CFR Affected: §§ 91.205(h)(7), 91.9(a), 135.160, and 135.179(a).

Description of Relief Sought: Helicopter Association International petitions on behalf of its members and other part 135 helicopter air carriers/operators for an exemption for relief from §§ 91.205(h)(7), 91.9(a), 135.160, and 135.179(a) to allow for operations to be conducted under 14 CFR part 135. These operations include night vision goggles (NVGs) and night landings and takeoffs from unimproved or off-airport sites, with inoperative or unreliable radar (radio) altimeters due to 5G telecommunications systems in the 3.7-3.98 GHz band (C-Band) causing harmful interference to radar altimeters on all types of civil aircraft, including transport and general aviation helicopters.

[FR Doc. 2021-25071 Filed 11-16-21; 8:45 am]

BILLING CODE 4910-13-P